PRESIDENT'S COUNCIL ON INTEGRITY AND EFFICIENCY

Executive Council on Integrity and Efficiency; Senior Executive Service Performance Review Board Membership

AGENCY: President's Council on Integrity and Efficiency (PCIE) and Executive Council on Integrity and Efficiency (ECIE).

ACTION: Notice.

SUMMARY: This notice sets forth the names and titles of the current membership of the PCIE/ECIE Performance Review Board.

EFFECTIVE DATE: January 3, 2000.

FOR FURTHER INFORMATION CONTACT: Individual Offices of (the) Inspector General.

SUPPLEMENTARY INFORMATION:

I. Background

The Inspector General's Act of 1978, as amended, has created independent audit and investigative units-Offices of (the) Inspector General-at 57 Federal agencies. In 1981, the President's Council on Integrity and Efficiency (PCIE) was established by Executive Order. An Executive Order in 1992 reaffirmed the PCIE and established the Executive Council on Integrity and Efficiency (ECIE). Both councils are interagency committees chaired by the Office of Management and Budget's Deputy Director for Management. Their mission is to continually identify, review, and discuss areas of weakness and vulnerability in Federal programs and operations to fraud, waste, and abuse, and to develop plans for coordinated, Government-wide activities that address these problems and promote economy and efficiency in Federal programs and operations. PCIE members include the 28 Inspectors General appointed by the President; ECIE members include the 29 Inspectors General appointed by their respective agency heads.

II. PCIE Performance Review Board

Under 5 U.S.C. 4314(c) (1)-(5) and in accordance with regulations prescribed by the Office of Personnel Management, each agency is required to establish one or more Senior Executive Service (SES) performance review boards. The purpose of these boards is to review and evaluate the initial appraisal of a senior executive's performance by the supervisor, along with any recommendations to the appointing authority relative to the performance of the senior executive. The current members of the PCIE/ECIE Performance Review Board are as follows:

Joshua Gotbaum,
Executive Associate Director and Controller.

Members | Title
Agency for International Development
Everett L. Mosley | Deputy Inspector General.
John L. Sullivan | Assistant Inspector General for Investigations.
Robert S. Perkins | Legal Counsel.
Department of Agriculture
Joyce Fleischman | Deputy Inspector General.
Paula F. Hayes | Assistant Inspector General for Policy Development and Resources Management.
James R. Ebbitt | Assistant Inspector General for Audit.
Richard D. Long | Deputy Assistant Inspector General for Audit.
Robert W. Young, Jr | Deputy Assistant Inspector General for Audit.
Gregory S. Seybold | Assistant Inspector General for Investigations.
Jon E. Novak | Deputy Assistant Inspector General for Investigations.
Christine Jung | Deputy Assistant Inspector General for Investigations.
Department of Commerce
Judith Gordon | Assistant Inspector General for Systems Evaluation.
Elizabeth Barlow | Counsel to the Inspector General.
Stephen Garmon | Assistant Inspector General for Investigation.
Mary Casey | Deputy Assistant Inspector General for Auditing.
Department of Defense
John F. Keenan | Assistant Inspector General for Investigations.
Robert J. Lieberman | Assistant Inspector General for Auditing.
Charles W. Beardall | Deputy Assistant Inspector General for Criminal Investigative Policy and Oversight.
Carol L. Levy | Deputy Assistant Inspector General for Investigations.
David K. Steensma | Deputy Assistant Inspector General for Auditing.
Joel L. Leson | Director for Administration and Information Management.
C. Frank Broome | Director for Departmental Inquiries.
David M. Crane | Director for Intelligence Review.
Thomas Gimble | Director, Acquisition Management Audit Directorate.
David A. Brinkman | Director, Audit Follow-up and Technical Support Directorate.
Paul J. Granetto | Director, Contract Management Audit Directorate.
F. Jay Lane | Director, Finance and Accounting Directorate.
Shelton Young | Director, Business and Logistics Support Directorate.
Department of Energy
Phillip L. Holbrook | Assistant Inspector General for Audit Services.
Judith D. Gibson | Assistant Inspector General for Resource Management.
Sandra L. Schneider | Assistant Inspector General for Inspections.
Herbert Richardson | Assistant Inspector General for Investigations.
Sandford J. Parnes | Counsel to the Inspector General.
Stanley R. Sulak | Director, Office of Performance Audits and Administration.
William S. Maharay | Regional Manager.
Department of Health and Human Services
Michael F. Mangano | Principal Deputy Inspector General.
Thomas D. Roslewicz | Deputy Inspector General for Audit Services.
Joseph E. Vengrin | Assistant Inspector General for Audit Policy/Oversight.
George Reeb | Assistant Inspector General for Health Care Financing Audits.
Joe Green | Assistant Inspector General for Public Health Service Audits.
John A. Ferris | Assistant Inspector General for Human, Family and Department Service Audits.
John E. Hartwig | Deputy Inspector General for Investigations.
Robert E. Richardson | Assistant Inspector General for Criminal Investigations.
Frank J. Nahlik | Assistant Inspector General for Investigative Oversight and Support.
George Grob | Deputy Inspector General for Evaluation and Inspections.
Dennis J. Duquette | Deputy Inspector General for Management and Policy.
D. McCarty Thornton | Counsel to the Inspector General.
Lewis Morris | Assistant Inspector General for Litigation Coordination.
Department of Housing and Urban Development
John J. Connors | Deputy Inspector General.
Kathryn M. Kuhl-Inclan | Assistant Inspector General for Audit.
Phillip A. Kesaris | Assistant Inspector General for Investigation.
Phillip X. Newsome | Deputy Assistant Inspector for Investigation.
Michael R. Phelps | Deputy Assistant Inspector General for Audit.
Department of Justice
Robert L. Ashbaugh | Deputy Inspector General.
Mary W. Demory | Assistant Inspector General for Management and Planning.
Howard L. Sribnick | General Counsel.
Department of Labor
Patricia A. Dalton | Deputy Inspector General.
Sylvia T. Horowitz | Assistant Inspector General for Management and Counsel.
John J. Getek | Assistant Inspector General for Audit.
Stephen J. Cossu | Assistant Inspector General for Investigations.
Department of State
J. Richard Berman | Deputy Assistant Inspector General for Audits.
Donald Norman | Assistant Inspector General for Inspections.
LeRoy Lowery | Deputy Assistant Inspector General for Inspections.
James K. Blubaugh | Assistant Inspector General of Policy, Planning, and Management.
Jon Wiant | Assistant Inspector General for Security and Intelligence Oversight.
Department of Transportation
Raymond J. DeCarli | Deputy Inspector General.
Todd J. Zinser | Assistant Inspector General for Investigations.
Alexis M. Stefani | Assistant Inspector General for Auditing.
Thomas J. Howard | Deputy Assistant Inspector General for Maritime and Departmental Programs.
John L. Meche | Deputy Assistant Inspector General for Financial and Information Technology.
Department of the Treasury
Richard B. Calahan | Deputy Inspector General.
Dennis S. Schindel | Assistant Inspector General for Audit.
Emilie M. Baebel | Assistant Inspector General for Management Services.
Michael C. Tarr | Assistant Inspector General for Investigations.
Marla A. Freedman | Deputy Assistant Inspector General for Program Audits.
William Pugh | Deputy Assistant Inspector General for Financial Management.
Department of Veterans Affairs
Thomas Williams | Assistant Inspector General for Investigations.
Michael G. Sullivan | Assistant Inspector General for Audit.
Michael Slachta, Jr | Deputy Assistant Inspector General for Audit.
Jon Wooditch | Assistant Inspector General for Management and Administration.
Alanson Schweitzer | Deputy Assistant Inspector General for Healthcare Inspections.
Maureen T. Regan | Counselor to the Inspector General.
Environmental Protection Agency
James O. Rauch | Assistant Inspector General for Audit.
John Jones | Assistant Inspector General for Management.
Allen Fallin | Assistant Inspector General for Investigations.
Emmett Dashiell | Deputy Assistant Inspector for Investigations.
Federal Emergency Management Agency
Richard L. Skinner | Deputy Inspector General.
Nancy L. Hendricks | Assistant Inspector General for Audits.
Paul J. Lillis | Assistant Inspector General for Investigations.
General Services Administration
Joel S. Gallay | Deputy Inspector General.
Kathleen S. Tighe | Counsel to the Inspector General.
James Henderson | Assistant Inspector General for Investigations.
Mark Woods | Deputy Assistant Inspector General for Investigations.
Eugene L. Waszily | Assistant Inspector General for Auditing.
John Syarto | Deputy Assistant Inspector General for Auditing.
National Aeronautics and Space Administration
David M. Cushing | Assistant Inspector General for Inspections, Administrative Investigations, and Assessments.
Samuel A. Maxey | Assistant Inspector General for Investigations.
Russell A. Rau | Assistant Inspector General for Auditing.
Nuclear Regulatory Commission
David C. Lee | Deputy Inspector General.
Thomas J. Barchi | Assistant Inspector General for Audits.
James E. Childs | Assistant Inspector General for Investigations.
Office of Personnel Management
Joseph R. Willever | Deputy Inspector General.
Harvey D. Thorp | Assistant Inspector General for Audits.
Sanders P. Gerson | Deputy Assistant Inspector General for Audits.
Norbert E. Vint | Assistant Inspector General for Investigations.
E. Jeremy Hutton | Assistant Inspector General for Legal Affairs.
Railroad Retirement Board
William H. Tebbe | Assistant Inspector General for Investigations.
Henrietta B. Shaw | Assistant Inspector General for Audit.
Small Business Administration
Peter L. McClintock | Deputy Inspector General.
Richard R. Smith | Assistant Inspector General for Investigations.
Robert G. Seabrooks | Assistant Inspector General for Auditing.
Thomas C. Cross | Assistant Inspector General for Inspections and Evaluation.
Social Security Administration
Daniel R. Devlin | Deputy Assistant Inspector for Audit.
Patrick O'Carroll | Assistant Inspector General for Investigations.
Kathy Buller | Counsel to the Inspector General.
Peace Corps
Charles Smith | Inspector General.
Equal Employment Opportunity Commission
Aletha Brown | Inspector General.

[FR Doc. 00-6023 Filed 3-10-00; 8:45 am]

BILLING CODE 3110-01-P